COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) from the Procurement List that were furnished by nonprofit agencies employing persons who are blind or have other severe disabilities.

DATES: Date added to and deleted from the Procurement List: August 3, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322 or email CMTEFedReg@AbilityOne.gov.

SUPPLEMENTARY INFORMATION:

Deletions

On May 30, 2025 (90 FR 23037), the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s): 8530-01-702-8831—Kit, Personal Sanitizing

Authorized Source of Supply: Blind Industries & Services of Maryland, Baltimore, MD

Contracting Activity: GSA/FSS GREATER SOUTHWEST ACQUISITI, FORT WORTH, TX

Service(s)

Service Type: Administrative Services

Mandatory for: GSA, Colorado Field Office: 730 Simmons Street; Denver, CO

Authorized Source of Supply: Bayaud Enterprises, Inc., Denver, CO

Contracting Activity: PUBLIC BUILDINGS SERVICE, PBS R8

Service Type: Janitorial/Custodial

Mandatory for: US Army Reserve, PFC Cloyse E. Hall USARC, Salem, VA; 1915 Roanoke Boulevard; Salem, VA

Authorized Source of Supply: Goodwill Industries of the Valleys, Inc., Roanoke, VA

Contracting Activity: DEPT OF THE ARMY, W6QK ACC-PICA

Service Type: Janitorial/Custodial

Mandatory for: US Army Reserve, New River Valley Memorial USARC, Dublin, VA; 5746 Reserve Way: Dublin, VA

Authorized Source of Supply: Goodwill Industries of the Valleys, Inc., Roanoke, VA

Contracting Activity: DEPT OF THE ARMY, W6QK ACC-PICA

Service Type: Custodial service

Mandatory for: US Army Reserve, TSGT Frank D. Peregory USARC, Charlottesville, VA; 1634 Cherry Ave.: Charlottesville, VA

Authorized Source of Supply: Goodwill Industries of the Valleys, Inc., Roanoke, VA

Contracting Activity: DEPT OF THE ARMY, W6QK ACC-PICA

Service Type: Janitorial Service

Mandatory for: US Army Reserve, Hewgley USARC, Knoxville, TN; 1334 East Weisgarber Road; Knoxville, TN

Contracting Activity: DEPT OF THE ARMY, W074 ENDIST CHARLESTON

Service Type: Medical Transcription

Mandatory for: Department of Veteran Affairs, VA Long Beach Healthcare System, 5901 E 7th Street; Long Beach, CA

Authorized Source of Supply: Goodwill Industries of San Antonio Contract Services, San Antonio, TX

Contracting Activity: VETERANS AFFAIRS, DEPARTMENT OF, 262-NETWORK CONTRACT OFFICE 22

Michael R. Jurkowski,
Director, Business Operations.

[FR Doc. 2025-12443 Filed 7-2-25; 8:45 am]

BILLING CODE 6353-01-P